DEFENSE NUCLEAR FACILITIES SAFETY BOARD

Sunshine Act Notice

AGENCY: Defense Nuclear Facilities Safety Board.

ACTION: Notice of Public Meeting and Hearing.

SUMMARY: Pursuant to the provisions of the “Government in the Sunshine Act”

(5 U.S.C. 552b), and as authorized by 42 U.S.C. 2286b, notice is hereby given of the Defense Nuclear Facilities Safety Board's (Board) public meeting and hearing described below. The Board invites interested persons or groups to present comments, technical information, or data concerning safety issues related to the matters to be considered.

TIME AND DATE OF MEETING: Session I: 1 p.m.—5 p.m., October 2, 2012; Session II: 6:30 p.m.—9 p.m., October 2, 2012.

PLACE: Knoxville Convention Center, 701 Henley Street, Knoxville, Tennessee 37902.

STATUS Open. While the Government in the Sunshine Act does not require that the scheduled discussion be conducted in a meeting, the Board has determined that an open meeting in this specific case furthers the public interests underlying both the Sunshine Act and the Board's enabling legislation.

MATTERS TO BE CONSIDERED: In Session I of this public meeting and hearing, the Board will examine the National Nuclear Security Administration's (NNSA) efforts to mitigate risks to public and worker safety posed by aging defense nuclear facilities at the Y-12 National Security Complex. The Board will receive testimony from NNSA and its contractors concerning the operations at existing Y-12 defense nuclear facilities, including Building 9212, Building 9204-2E, and Building 9215. The Board is interested in actions taken to address recent issues with conduct of operations, maintenance, and work planning; the contractor's processes for identifying and resolving safety issues; and the effectiveness of NNSA's oversight for nuclear operations. The Board will also examine the status of emergency preparedness at Y-12 and will receive testimony concerning how well NNSA and its contractor are prepared to respond to severe events and site emergencies. The Board is interested in lessons learned from the events at the Fukushima Daiichi complex and the actions taken to incorporate these lessons learned at the site-wide level and in defense nuclear facility operations. During Session II, the Board will receive testimony regarding factors that could affect the timely execution and safety of the Uranium Processing Facility (UPF) project. These factors include the federal project team's strategy for identifying and resolving safety issues in a timely manner. The Board is also interested in exploring the potential safety impacts of NNSA's decision to accelerate the acquisition of select processing capabilities and defer others to a later date, as well as the potential for weaknesses in technology development to impact safety. The public hearing portion of this proceeding is authorized by 42 U.S.C. 2286b.

CONTACT PERSON FOR MORE INFORMATION: Debra Richardson, Deputy General Manager, Defense Nuclear Facilities Safety Board, 625 Indiana Avenue NW., Suite 700, Washington, DC 20004-2901, (800) 788-4016. This is a toll-free number.

SUPPLEMENTARY INFORMATION: Public participation in the hearing is invited. The Board is setting aside time at the end of each session of the hearing for presentations and comments from the public. Requests to speak may be submitted in writing or by telephone. The Board asks that commenters describe the nature and scope of their oral presentations. Those who contact the Board prior to close of business on September 28, 2012, will be scheduled to speak at the session of the hearing most relevant to their presentations. At the beginning of Session I, the Board will post a schedule for speakers at the entrance to the hearing room. Anyone who wishes to comment or provide technical information or data may do so in writing, either in lieu of, or in addition to, making an oral presentation. The Board Members may question presenters to the extent deemed appropriate. Documents will be accepted at the hearing or may be sent to the Board's Washington, DC, office. The Board will hold the record open until November 2, 2012, for the receipt of additional materials. The hearing will be presented live through Internet video streaming. A link to the presentation will be available on the Board's Web site (www.dnfsb.gov). A transcript of the hearing, along with a DVD video recording, will be made available by the Board for inspection and viewing by the public at the Board's Washington, DC, office and at DOE's public reading room at the DOE Federal Building, 1000 Independence Avenue SW, Washington, DC 20585. The Board specifically reserves its right to further schedule and otherwise regulate the course of the meeting and hearing, to recess, reconvene, postpone, or adjourn the meeting and hearing, conduct further reviews, and otherwise exercise its power under the Atomic Energy Act of 1954, as amended.

Dated: August 10, 2012.
Peter S. Winokur,
Chairman.

[FR Doc. 2012-20087 Filed 8-13-12; 11:15 am]

BILLING CODE 3670-01-P